ENVIRONMENTAL PROTECTION AGENCY

40 CFR Part 122

EPA Administered Permit Programs: The National Pollutant Discharge Elimination System

CFR Correction

In Title 40 of the Code of Federal Regulations, Parts 100 to 135, revised as of July 1, 2001, on pages 164 and 166, § 122.26 is corrected by revising paragraphs (c)(1) introductory text and (c)(1)(i)(E)(4), on page 167, by removing and reserving paragraph (c)(2), and on page 171, in paragraph (d)(2)(iii) introductory text, by revising the reference to “(d)(a)(iii)(A)(3)” to read “(d)(2)(iii)(A)(3)”, as follows:

§ 122.26 Storm water discharges (applicable to State NPDES programs, see § 123.25).

* * * * *

(c) * * *

(1) Individual application. Dischargers of storm water associated with industrial activity and with small construction activity are required to apply for an individual permit or seek coverage under a promulgated storm water general permit. Facilities that are required to obtain an individual permit or any dischage of storm water which the Director is evaluating for designation (see § 124.52(c) of this chapter) under paragraph (a)(1)(v) of this section and is not a municipal storm sewer, shall submit an NPDES application in accordance with the requirements of § 122.21 as modified and supplemented by the provisions of this paragraph.

(i) * * *

(E) * * *

(4) Any information on the discharge required under § 122.21(g)(7)(vi) and (vii);

[FR Doc. 02-55515 Filed 6-21-02; 8:45 am]

BILLING CODE 1505-01-D